DEPARTMENT OF TRANSPORTATION

Federal Highway Administration

Environmental Impact Statement: Kootenai and Bonner Counties, Idaho

AGENCY: Federal Highway Administration (FHWA), DOT.

ACTION: Notice of intent.

SUMMARY: The FHWA is issuing this notice to advise the public that an Environmental Impact Statement (EIS) will be prepared for a proposed highway project in Kootenai and Bonner Counties, Idaho.

FOR FURTHER INFORMATION CONTACT: Russell L. Jorgenson, Field Operations Engineer, Federal Highway Administration, 3050 Lakeharbor Lane, Suite 126, Boise, Idaho 83703, telephone: (208) 334-1843; or L. David Karsann, Senior Environmental Planner, Idaho Transportation Department, 600 West Prairie Ave., Coeur d'Alene, Idaho 82815, telephone: (208) 772-1232.

SUPPLEMENTARY INFORMATION: The FHWA, in cooperation with the Idaho Transportation Department (ITD), will prepare an EIS on a proposal to improve U.S. Highway 95 in Kootenai and Bonner Counties, Idaho. The EIS will evaluate improvements to US 95 between State Highway 53 two miles north of the City of Hayden (MP 438.24) and Sagle (MP 469.75), a distance of about 31.5 miles.

Improvements to the corridor are considered necessary to provide for the existing and projected traffic demand, and to improve safety conditions. A full range of alternatives will be evaluated in the EIS.

Letters describing the proposed action and soliciting comments will be sent to appropriate Federal, State, and local agencies, and to private organizations and citizens who have previously expressed or are known to have interest in this proposal. Scoping will begin with the publication of the Notice of Intent. As part of the scoping process, public information meetings will be held in addition to public hearings. Public notice will be given of the time and place of the meetings and hearings. The Draft EIS will be available for public agency review and comment prior to the public hearing.

To ensure that the full range of issues related to this proposed action are addressed and all significant issues are identified, comments and suggestions are invited from all interested parties. Comments or questions concerning this proposed action and the EIS should be directed to the FHWA or ITD at the addresses provided above.

(Catalog of Federal Domestic Assistance Program Number 20.205, Highway Planning and Construction. The regulations implementing Executive Order 12372 regarding intergovernmental consultation on Federal programs and activities apply to this program.)

Authority: 23 U.S.C. 315; 23 CFR 771.123; 49 CFR 1.48.

Dated: November 24, 2003.
Stephen A. Moreno,
Division Administrator, Federal Highway Administration, Boise, Idaho.

[FR Doc. 03-29789 Filed 11-28-03; 8:45 am]

BILLING CODE 4910-22-M